DEPARTMENT OF AGRICULTURE

Forest Service

Juncrock Timber Sale, Mt. Hood National Forest, Wasco County, OR

AGENCY: Forest Service, USDA.

ACTION: Notice of intent to prepare a revised environmental impact statement.

SUMMARY: Notice is hereby given that The USDA Forest Service, will prepare a revised environmental impact statement (EIS) for the Juncrock Timber Sale on the Barlow Ranger District of the Mt. Hood National Forest. The Notice of Availability of the Draft EIS for the Juncrock Timber Sale was published in the Federal Register (68 FR 53730) on September 12, 2003 and notice of the final EIS (69 FR 22025) was published on April 23, 2004. The Record of Decision of this project was administratively appealed to the Regional Forester per 36 CFR 215. After considering issues raised in the appeal the Forest Service decided on July 7, 2004 to withdraw the decision in order to conduct further analysis. This analysis will be included in the revised (EIS). The proposed action is unchanged from that published in the Federal Register on June 27, 2002 (67 FR 43274-43276). It is scheduled for implementation in fiscal years 2005 and 2006. The agency will give notice of the full environmental analysis and decision-making process so interested and affected people may be able to participate and contribute in the final decision.

DATES: Comments concerning the proposed action and scope of the analysis should be postmarked by September 30, 2004.

ADDRESSES: Send written comments concerning the proposed action to Becky Nelson, NEPA Coordinator, 780 N.E. Court Street, Dufur, Oregon (phone: 541-467-2291). Comments may also be sent by FAX (541-467-2271). Include your name and mailing address so documents pertaining to this project may be mailed to you.

FOR FURTHER INFORMATION CONTACT: Questions about the proposed action and Revised EIS should be directed to Becky Nelson (Address and phone number listed above), or to Mike Redmond, Environmental Coordination, 16400 Champion Way, Sandy, Oregon, 97055-7248 (phone: 503-668-1776).

SUPPLEMENTARY INFORMATION: The proposed action would promote forest health and provide commercial wood fiber by removing trees that are dead, or affected by insects, disease, overstocking, or defects on approximately 550 acres. This treatment would help reach the goals of creating multi-storied, disease resistant, stands in this area and providing a predictable sale quantity of wood fiber to local/regional economies as envisioned in the Northwest Forest Plan.

Existing roads would be extended approximately 0.5 miles where access is needed and 4 roads would be reconstructed for a total of approximately 1 mile. Approximately 21 miles of road are proposed for closure and two road segments would be decommissioned for about 1 mile.

The planning area is located about 38 miles south of Hood River, Oregon in portions of Sections 1, 12, & 13, of T.5 S., R.9 E., and portions of Sections 3, 4, 5, 6, 7, 8, 9, 10, 17, & 18, of T.5 S., R. 10 E., Williamette Meridian, Wasco County, Oregon. The planning are does not include any wilderness, RARE II inventoried roadless, or other unroaded areas. It is outside the White River Wild and Scenic River corridor as identified in the “White River Wild and Scenic River Plan”. The planning area is immediately adjacent to the White River late successional reserve (LSR) and the planning area is identified as a Key Watershed in the Northwest Forest Plan. The Juncrock. Timber Sale is included in the C-1, Timber Emphasis allocation, and the B-2, Scenic Viewshed allocation, of the Mt. Hood National Forest Land and Resource Management Plan.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 533 (1978). Also, environmental objections that could be raised at the draft EIS stage but are not raised until after completion of the final EIS may be waived or dismissed by the courts. City of Angoon v. Hodel, 803 f. 2d 1016, 1022 (9th Cir., 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft revised EIS should be as specific as possible. It is also helpful if comments refer to specific pages or chapters of the draft revised EIS. Comments may also address the adequacy of the draft revised EIS or the merits of the alternatives formulated and discussed in the statement. Reviewers may wish to refer to the Council on Environmental Quality Regulations for implementing the procedural provisions of the National Environmental Policy Act at 40 CFR 1503.3 in addressing these points.

The draft revised EIS is planned to be filed with the Environmental Protection Agency (EPA) and available for public review in October 2004. At that time, copies of the draft revised EIS will be distributed to interested and affected agencies, organizations, Indian Tribes, and members of the public for their review and comment. The EPA will publish a Notice of Availability (NOA) of the draft revised EIS in the Federal Register. The comment period on the draft revised EIS will be 45 days from the date the NOA appears in the Federal Register.

The Forest Service is seeking information, comments, and assistance from other agencies, organizations, Indian Tribes, and individuals who may be interested in or affected by the proposed action. Your comments are appreciated throughout the analysis process.

Comments received in response to this proposed action, including names and addresses of those who comment, will be considered part of the public record on this proposed action and will be available for public inspection. Comments submitted anonymously will be accepted and considered; however, those who submit anonymous comments will not have standing to appeal the subsequent decision under 36 CFR Parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without names and addresses within thirty days.

The final revised EIS is scheduled to be available by January 2005. In the final revised EIS, the Forest Service is required to respond to substantive comments received during the comment period for the draft revised EIS. The responsible official is Gary Larsen, Mt. Hood National Forest Supervisor. The responsible official will decide which, if any, of the alternatives will be implemented. The Juncrock Timber Sale decision and rationale will be documented in a Record of Decision, and subject to Forest Service Appeal Regulations (36 CFR Part 215).

Dated: August 9, 2004.
Gary L. Larsen,
Forest Supervisor.

[FR Doc. 04-18582 Filed 8-12-04; 8:45 am]

BILLING CODE 3410-11-M